FEDERAL COMMUNICATIONS COMMISSION

47 CFR Part 2

[IB Docket No. 01-185, ET Docket No. 95-18, DA 01-2548]

Flexibility for Delivery of Communications by Mobile Satellite Service Providers in the 2 GHz Band, the L-Band, and the 1.6/2.4 GHz Band

AGENCY: Federal Communications Commission.

ACTION: Proposed rule; extension of comment period.

SUMMARY: In this document, the Commission gives notice that it extended the period for reply comment in the proceeding that it initiated to explore proposals to bring flexibility to the delivery of communications by Mobile Satellite Service (“MSS”) providers. The Commission extended the period for reply comment at the request of the Cellular Telecommunications & Internet Association (CTIA) and Motient Services, Inc. (Motient) in order to allow sufficient time to establish the most complete and well-developed record possible on which to base a decision.

DATES: Reply Comments were due November 12, 2001.

FOR FURTHER INFORMATION CONTACT: Breck Blalock, 202-418-8191.

SUPPLEMENTARY INFORMATION: This is a summary of the Order Extending Comment Period in IB Docket No. 01-185, ET Docket No. 95-18, DA 01-2314, adopted October 4, 2001. The complete text of this Order is available for inspection and copying during normal business hours in the FCC Reference Information Center, Courtyard Level, 445 12th Street, SW., Washington, DC 20554 and also may be purchased from the Commission's copy contractor, Qualex International, Portals II, 445 12th Street, SW., Room CY-B402, Washington, DC 20554.

1. The Commission extended the reply comment period deadlines established in the Notice of Proposed Rulemaking in this proceeding (66 FR 47621, August 20, 2001) from November 5, 2001, to November 12, 2001.

Ordering Clause

2. The requests of CTIA and Motient to extend the deadline for filing reply comments in this proceeding is granted to the extent indicated, pursuant to § 1.46 of the Commission's Rules, 47 CFR 1.46.

Federal Communications Commission.
J. Breck Blalock,
Deputy Chief, Planning & Negotiations Division, International Bureau.

[FR Doc. 01-28682 Filed 11-14-01; 8:45 am]

BILLING CODE 6712-01-P